ENVIRONMENTAL PROTECTION AGENCY

[EPA-HQ-OECA-2011-0217; FRL-9500-8]

Agency Information Collection Activities; Submission to OMB for Review and Approval; Comment Request; NSPS for Sulfuric Acid Plants (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before January 6, 2012.

ADDRESSES: Submit your comments, referencing docket ID number EPA-HQ-OECA-2011-0217, to: (1) EPA online using http://www.regulations.gov (our preferred method), or by email to docket.oeca@epa.gov, or by mail to: EPA Docket Center (EPA/DC), Environmental Protection Agency, Enforcement and Compliance Docket and Information Center, mail code 2822IT, 1200 Pennsylvania Avenue NW., Washington, DC 20460; and (2) OMB at: Office of Information and Regulatory Affairs, Office of Management and Budget (OMB), Attention: Desk Officer for EPA, 725 17th Street NW., Washington, DC 20503.

FOR FURTHER INFORMATION CONTACT: Learia Williams, Monitoring, Assistance, and Media Programs Division, Office of Compliance, Mail Code 2223A, Environmental Protection Agency, 1200 Pennsylvania Avenue NW., Washington, DC 20460; telephone number: (202) 564-4113; fax number: (202) 564-0050; email address: williams.learia@epa.gov.

SUPPLEMENTARY INFORMATION: EPA has submitted the following ICR to OMB for review and approval according to the procedures prescribed in 5 CFR 1320.12. On May 9, 2011 (76 FR 26900), EPA sought comments on this ICR pursuant to 5 CFR 1320.8(d). EPA received no comments. Any additional comments on this ICR should be submitted to both EPA and OMB within 30 days of this notice.

EPA has established a public docket for this ICR under docket ID number EPA-HQ-OECA-2011-0217, which is available for public viewing online at http://www.regulations.gov, in person viewing at the Enforcement and Compliance Docket in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: NSPS for Sulfuric Acid Plants (Renewal).

ICR Numbers: EPA ICR Number 1057.12, OMB Control Number 2060-0041.

ICR Status: This ICR is scheduled to expire on December 31, 2011. Under OMB regulations, the Agency may continue to conduct or sponsor the collection of information while this submission is pending at OMB.

Abstract: The New Source Performance Standards (NSPS) for Sulfuric Acid Plants were proposed on August 17, 1971, and promulgated on December 23, 1971. These standards apply to any sulfuric acid facility commencing construction, modification, or reconstruction after the date of proposal. The control of sulfur dioxide (SO2) and acid mist requires not only the installation of properly designed equipment, but also the proper operation and maintenance of that equipment. Sulfur dioxide and acid mist emissions from sulfuric acid plants result from the burning of sulfur or sulfur-bearing feed-stock to form SO2, catalytic oxidation of SO2 to sulfur trioxide, and absorption of SO2 in a strong acid stream. These standards rely on the capture of SO2 and acid mist by venting to a control device.

Owners or operators of sulfuric acid plants are required to make the following one-time-only reports, notification of the date of construction or reconstruction, notification of actual startup dates, notification of any physical or operational change to an existing facility, and notification of demonstration of the continuous emissions monitoring system (CEMS). The owners and operators should notify the Administrator of the date of the initial performance test and the results of the test. After the initial recordkeeping and reporting requirements, semiannual reports are required if there has been an exceedance of control device operating parameters. Respondents are also required to maintain records of occurrence and duration of any startup, shutdown, or malfunction, or any period during which the monitoring system is inoperative.

Notifications are to inform the Agency or delegated authority when a source becomes subject to the standard. The reviewing authority may then inspect the source to ensure that the pollution control devices are properly installed and operating and that the standards are being met. Performance test reports are required as these are the Agency's records of a source's initial capability to comply with the emission standards and to serve as a record of the operating conditions under which compliance are to be achieved. The information generated by monitoring, recordkeeping, and reporting requirements described in this ICR are used by the Agency to ensure that facilities that are affected by the standard continue to operate the control equipment and achieve continuous compliance with the regulation.

All reports are sent to the delegated state or local authority. In the event that there is no such delegated authority, the reports are sent directly to the EPA regional office. This information is being collected to assure compliance with 40 CFR part 60, subpart H, as authorized in section 112 and 114(a) of the Clean Air Act. The required information consists of emissions data and other information that have been determined to be private.

An agency may not conduct or sponsor, and a person is not required to respond to, a collection of information unless it displays a currently valid OMB Control Number. The OMB Control Numbers for the EPA regulations are listed in 40 CFR part 9 and 48 CFR chapter 15, and are identified on the form and/or instrument, if applicable.

Burden Statement: The annual public reporting and recordkeeping burden for this collection of information is estimated to average 81 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Sulfuric acid plants.

Estimated Number of Respondents: 53.

Frequency of Response: Initially, occasionally, and semiannually.

Estimated Total Annual Hour Burden: 8,594.

Estimated Total Annual Cost: $1,061,150, which includes $822,650 in labor costs, no capital/startup costs, and $238,500 in operation and maintenance (O&M) costs.

Changes in the Estimates: The adjustment decrease in burden from the most recently approved ICR is due to a more accurate estimate of existing and anticipated new sources. After consulting with the Office of Air Quality Planning and Standards (OAQPS) and a number of trade associations, our data indicates that there are approximately 53 sources subject to the rule, as compared with the active ICR that shows 103 sources. There are no new facilities expected to be constructed over the next three years of this ICR. The decline in the number of sources is partially due to: (1) Plant closures, as the cost to retrofit aging facilities increased due to the down turn in the economy; (2) corporate mergers; and (3) foreign competition. Therefore, there is a net decrease in the burden to industry.

Because there are no new sources with reporting requirements, no capital/startup costs are incurred. The only cost that is incurred is for the O&M of the monitoring equipment.

Dated: November 30, 2011.
John Moses,
Director, Collection Strategies Division.

[FR Doc. 2011-31399 Filed 12-6-11; 8:45 am]

BILLING CODE 6560-50-P